DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW., Washington, DC 20590-0001, (202) 366-4535.

Key to “Reasons for Delay”

1. Awaiting additional information from applicant.

2. Extensive public comment under review.

3. Application is technically complex and is of significant impact or precedent-setting and requires extensive analysis.

4. Staff review delayed by other priority issues or volume of exemption applications.

Meaning of Application Number Suffixes

N—New application.

M—Modification request.

PM—Party to application with modification request.

Issued in Washington, DC, on November 20, 2001.
J. Suzanne Hedgepeth,
Director, Office of Hazardous Materials, Exemptions and Approvals.

New Exemption Applications
Application Number | Applicant | Reason for delay | Estimated date of completion
11862-N | The BOC Group, Murray Hill, NJ | 4 | 12/31/2001
11927-N | Alaska Marine Lines, Inc., Seattle, WA | 4 | 12/31/2001
12353-N | Monson Companies, South Portland, ME | 4 | 12/31/2001
12381-N | Ideal Chemical & Supply Co., Memphis, TN | 4 | 12/31/2001
12406-N | Occidental Chemical Corporation, Dallas, TX | 4 | 12/31/2001
12412-N | Great Western Chemical Company, Portland, OR | 4 | 12/31/2001
12434-N | Salmon Air, Salmon, ID | 4 | 12/31/2001
12440-N | Luxfer Inc., Riverside, CA | 4 | 12/31/2001
12456-N | Baker Hughes, Houston, TX | 4 | 12/31/2001
12571-N | Air Products & Chemicals, Inc., Allentown, PA | 4 | 12/31/2001
12586-N | Wilsonart International Inc., Temple, TX | 4 | 12/31/2001
12588-N | El Dorado Chemical Co., Creve Ceour, MO | 4 | 12/31/2001
12629-N | Western Sales & Testing of Amarillo, Inc., Amarillo, TX | 4 | 01/31/2002
12630-N | Chemetall GmbH Gesellschaft, Langelsheim, DE | 4 | 01/31/2002
12634-N | Norman International, Los Angeles, CA | 4 | 01/31/2002
12648-N | Stress Engineering Services, Inc., Houston, TX | 4 | 12/01/2001
12650-N | Coleman Powermate, Inc., Kearney, NE | 4 | 01/31/2002
12670-N | Taylor-Wharton, Theodore, AL | 4 | 12/31/2001
12674-N | G&S Aviation, Donnelly, ID | 4 | 12/31/2001
12690-N | Air Liquide America Corporation, Houston, TX | 4 | 01/31/2002
12696-N | Phibro-Tech, Inc., Fort Lee, NJ | 4 | 01/31/2002
12701-N | Fuel Cell Components & Integrators, Inc., Hauppauge, NY | 4 | 01/31/2002
12702-N | Los Crespos Cylinders, Anasco, PR | 4 | 12/31/2001
12706-N | Raufoss Composites AS, Raufoss, NO | 4 | 01/31/2002
12716-N | Air Liquide America Corporation, Houston, TX | 4 | 01/31/2002
12718-N | Weldship Corporation, Bethlehem, PA | 4 | 01/31/2002
12724-N | E. I. DuPont de Nemours & Co., Inc., Wilmington, DE | 4 | 01/31/2002
12751-N | Defense Technology Corporation, Casper, WY | 4 | 01/31/2002
12753-N | Praxair, Inc., Danbury, CT | 4 | 01/31/2002
12756-N | Department of Energy, Oak Ridge, TN | 4 | 01/31/2002
12819-N | BBI-Biotech Research Laboratories, Inc., Gaithersburg, MD | 4 | 12/31/2001
12827-N | Department of Energy (DOE), Washington, DC | 4 | 12/31/2001
4453-M | Dyno Nobel, Inc., Salt Lake City, UT | 4 | 12/31/2001
4884-M | Matheson Tri-Gas, East Rutherford, NJ | 4 | 12/31/2001
6805-M | Air Liquide America Corporation, Houston, TX | 4 | 12/31/2001
7060-M | Federal Express, Memphis, TN | 4 | 12/31/2001
7954-M | Voltaix, Inc., North Branch, NJ | 4 | 12/31/2001
8308-M | Tradewind Enterprises, Inc., Hillsboro, OR | 4 | 12/31/2001
8308-M | American Courier Express Corporation, Miramar, FL | 4 | 01/31/2002
8554-M | Orica USA Inc., Englewood, CO | 4 | 12/31/2001
8554-M | Dyno Nobel, Inc., Salt Lake City, UT | 4 | 01/31/2002
8723-M | Dyno Nobel, Inc., Salt Lake City, UT | 4 | 01/31/2002
9421-M | Taylor-Wharton (Harsco Corporation), Harrisburg, PA | 4 | 01/31/2002
11244-M | Aerospace Design & Development, Inc., Longmont, CO | 4 | 12/31/2001
111537-M | JCI Jones Chemicals, Inc., Milford, VA | 4 | 12/31/2001
11769-M | Great Western Chemical Company, Portland, OR | 4 | 12/31/2001
11769-M | Great Western Chemical Company, Portland, OR | 4 | 01/31/2002
11769-M | Hydrite Chemical Company, Brookfield, WI | 4 | 01/31/2002
11911-M | Transfer Flow, Inc., Chico, CA | 4 | 12/31/2001
12084-M | Honeywell International, Inc., Morristown, NJ | 4 | 01/31/2002

[FR Doc. 01-29478 Filed 11-26-01; 8:45 am]

BILLING CODE 4910-60-M